DEPARTMENT OF ENERGY

Federal Energy Regulatory Commission

Combined Notice of Filings #2

Take notice that the Commission received the following electric corporate filings:

Docket Numbers: EC16-37-000.

Applicants: NRG Wholesale Generation LP, Shelby County Energy Center, LLC.

Description: Joint Application of NRG Wholesale Generation LP and Shelby County Energy Center, LLC for Authorization Pursuant to Section 203 of the Federal Power Act, Request for Expedited Action and Request for Privileged Treatment.

Filed Date: 11/20/15.

Accession Number: 20151120-5154.

Comments Due: 5 p.m. ET 12/11/15.

Take notice that the Commission received the following electric rate filings:

Docket Numbers: ER15-411-005.

Applicants: Arizona Public Service Company.

Description: Compliance filing: Rate Schedule No. 274—Planning Participation Agreement to be effective 1/1/2015.

Filed Date: 11/20/15.

Accession Number: 20151120-5128.

Comments Due: 5 p.m. ET 12/11/15.

Docket Numbers: ER16-8-000.

Applicants: Duke Energy Ohio, Inc.

Description: Supplement to October 1, 2015 Duke Energy Ohio, Inc. tariff filing.

Filed Date: 11/19/15.

Accession Number: 20151119-5174.

Comments Due: 5 p.m. ET 12/3/15.

Docket Numbers: ER16-365-000.

Applicants: Meyersdale Windpower LLC.

Description: Baseline eTariff Filing: Meyersdale Windpower LLC Common Facilities Agreement to be effective 11/20/2015.

Filed Date: 11/20/15.

Accession Number: 20151120-5136.

Comments Due: 5 p.m. ET 12/11/15.

Docket Numbers: ER16-366-000.

Applicants: California Independent System Operator Corporation.

Description: § 205(d) Rate Filing: Rate Schedule 81, PGE EIM Implementation Agmt to be effective 1/20/2016.

Filed Date: 11/20/15.

Accession Number: 20151120-5149.

Comments Due: 5 p.m. ET 12/11/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Issued: November 20, 2015.
Nathaniel J. Davis, Sr.,
Deputy Secretary.

[FR Doc. 2015-30136 Filed 11-25-15; 8:45 am]

BILLING CODE 6717-01-P